DEPARTMENT OF JUSTICE

Notice of Lodging of Consent Decree Under the Clean Air Act

Under 28 CFR 50.7, notice is hereby given that on December 20, 2001, a proposed Complaint and Consent Decree in United States v. Conoco Inc., Civil Action No. H-01-4430, was lodged with the United States District Court for the Southern District of Texas.

In this action the United States sought civil penalties and injunctive relief against Conoco Inc. (“Conoco”) pursuant to Section 113(b) of the Clean Air Act (“CAA”), 42 U.S.C. 7413(b) (1983), amended by, 42 U.S.C. 7413(b) (Supp. 1991), alleged violations at Conoco's 4 refineries in Colorado, Montana, Oklahoma and Louisiana. Under the settlement, Conoco will implement innovative pollution control technologies to greatly reduce emissions of nitrogen oxides (“NoX”) and sulfur dioxide (“SO2”) from refinery process units and adopt facility-wide enhanced monitoring and fugitive emission control programs. In addition, Conoco will pay a civil penalty of $1.5 million and spend $5.5 million on supplemental and beneficial environmental projects. The states of Colorado, Montana, Oklahoma and Louisiana will join in this settlement as a signatories to the Consent Decree.

The Department of Justice will receive for a period of thirty (30) days from the date of this publication comments relating to the Consent Decree. Comments should be addressed to the Acting Assistant Attorney General, Environment and Natural Resources Division, P.O. Box 7611, U.S. Department of Justice, Washington, DC 20044-7611, and should refer to United States v. Conoco Inc., D.J. Ref. 90-5-2-1-07295/1.

The Consent Decree may be examined at the Office of the United States Attorney, Southern District of Texas, U.S. Courthouse, 515 Rusk, Houston, Texas 77002, and at EPA Region 6, 1445 Ross Avenue, Dallas, Texas 75202. A copy of the Consent Decree may also be obtained by mail from the Consent Decree Library, P.O. Box 7611, U.S. Department of Justice, Washington, DC 20044-7611. In requesting a copy, please enclose a check in the amount of $36.50 (25 cents per page reproduction cost) payable to the Consent Decree Library.

Robert Brook,
Assistant Chief, Environmental Enforcement Section, Environment and Natural Resources Division.

[FR Doc. 01-32222 Filed 12-31-01; 8:45 am]

BILLING CODE 4410-15-M